DEPARTMENT OF COMMERCE

International Trade Administration

[A-475-703]

Granular Polytetrafluoroethylene Resin From Italy: Extension of Time Limit for the Final Results of the Antidumping Duty Administrative Review

AGENCY: Import Administration, International Trade Administration, Department of Commerce.

EFFECTIVE DATE: January 9, 2009.

FOR FURTHER INFORMATION CONTACT: Shane Subler or Alicia Winston, at (202) 482-0189 or (202) 482-1785, respectively; AD/CVD Operations, Office 1, Import Administration, International Trade Administration, U.S. Department of Commerce, 14th Street & Constitution Avenue, NW, Washington, DC 20230.

SUPPLEMENTARY INFORMATION:

Background

On September 22, 2008, the Department published the notice of amended preliminary results of the administrative review of the antidumping duty order on granular polytetrafluoroethylene resin from Italy covering the period August 1, 2006, through July 31, 2007. See Amended Notice of Preliminary Results of Antidumping Duty Administrative Review: Granular Polytetrafluoroethylene Resin From Italy, 73 FR 54557 (September 22, 2008) (“Preliminary Results”).

Statutory Time Limits

Section 751(a)(3)(A) of the Tariff Act of 1930, as amended (“the Act”), requires the Department of Commerce (“the Department”) to issue the final results of an administrative review within 120 days of the publication of the preliminary results. If it is not practicable to complete the review within the time period, section 751(a)(3)(A) of the Act allows the Department to extend this deadline to a maximum of 180 days.

Extension of Time Limits for Final Results

The Department requires additional time to complete this review because it conducted sales and cost verifications after the Preliminary Results. The Department needs to allow time for parties to brief any issues and for the Department to consider all the issues raised, including complex cost accounting issues. Consequently, it is not practicable to complete this review within the originally anticipated time limit (i.e., by January 20, 2009). Therefore, the Department is extending the time limit for completion of the final results by 60 days to March 21, 2009, in accordance with section 751(a)(3)(A) of the Act and section 351.213(h)(2) of the Department's regulations. However, March 21, 2009, falls on a Saturday and it is the Department's long-standing practice to issue a determination the next business day when the statutory deadline falls on a weekend, federal holiday, or any other day when the Department is closed. See Notice of Clarification: Application of “Next Business Day” Rule for Administrative Determination Deadlines Pursuant to the Tariff Act of 1930, As Amended, 70 FR 24533 (May 10, 2005). Accordingly, the deadline for completion of the preliminary results is now no later than March 23, 2009.

We are issuing this notice in accordance with section 751(a)(3)(A) of the Act.

Dated: December 30, 2008.
Stephen J. Claeys,
Deputy Assistant Secretary for Antidumping and Countervailing Duty Operations.

[FR Doc. E9-226 Filed 1-8-09; 8:45 am]

Billing Code: 3510-DS-S